GENERAL SERVICES ADMINISTRATION

48 CFR Parts 501 and 570

[GSAR Case 2020-G530; Docket No. GSA-GSAR-2020-0012; Sequence No. 1]

RIN 3090-AK28

General Services Administration Acquisition Regulation; Update of GSA Forms References

AGENCY: Office of Acquisition Policy, General Services Administration (GSA).

ACTION: Direct final rule with request for comments.

SUMMARY: This direct final rule amends the General Services Administration Acquisition Regulation (GSAR) to address any references to outdated forms, and updates charts with current forms in use.

DATES: This final rule is effective on October 19, 2020 without further notice unless adverse comments are received by September 18, 2020. If GSA receives adverse comments, we will publish a timely withdrawal in the Federal Register informing the public that the rule will not take effect.

ADDRESSES: Submit comments in response to GSAR Case 2020-G530 via the Federal eRulemaking portal at Regulations.gov by searching for “GSAR Case 2020-G530”. Select the link “Comment Now” that corresponds with GSAR Case 2020-G530. Follow the instructions provided at the “Comment Now” screen. Please include your name, company name (if any), and “GSAR Case 2020-G530” on your attached document.

Instructions: Please submit comments only and cite GSAR Case 2020-G530 in all correspondence related to this case. Comments received generally will be posted without change to https://www.regulations.gov, including any personal and/or business confidential information provided. To confirm receipt of your comment(s), please check https://www.regulations.gov approximately two to three days after submission to verify posting.

FOR FURTHER INFORMATION CONTACT: Mr. Liam Skinner, GSA Acquisition Policy Division, at gsarpolicy@gsa.gov, for clarification of content. For information pertaining to status or publication schedules, contact the Regulatory Secretariat Division at 202-501-4755 or GSARegSec@gsa.gov. Please cite GSAR Case 2020-G530.

SUPPLEMENTARY INFORMATION:

I. Background

The General Services Administration (GSA) is issuing a final rule amending the General Services Administration Acquisition Regulation (GSAR) at Part 501, General Services Administration Acquisition Regulation System; and Part 570, Acquiring Leasehold Interests in Real Property.

These amendments update the GSAR with the current forms used and remove any reference to forms no longer used.

II. Authority for This Rulemaking

Title 40 of the United States Code (U.S.C.) Section 121 authorizes GSA to issue regulations, including the GSAR, to control the relationship between GSA and contractors.

III. Discussion and Analysis

Within Part 501, the GSA is amending GSAR 501.106, which includes a chart for any references within the GSAR that have a corresponding OMB Control Number required for information collection. GSA Forms 72A and 618D are currently listed within the chart, however both are now obsolete and have no reference within the GSAR. This case removes the references to these forms and their corresponding OMB Control Number. Also, this chart does not include GSA Form 1217, which is currently used and referenced within the GSAR. This case will add GSA Form 1217 and its corresponding OMB Control Number into the chart found at 501.106.

The amendment to Part 570 occurs at 570.802, which includes the use of GSA Forms during the lease process. The amendment is removing the paragraph which references GSA Form 276, which is no longer used by Public Buildings Service Leasing.

IV. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

V. Executive Order 13771

This final rule is not subject to E.O. 13771, because this rule is not a significant regulatory action under E.O. 12866.

VI. Regulatory Flexibility Act

The Regulation Flexibility Act does not apply to this rule, because this final rule does not constitute a significant GSAR revision, and 41 U.S.C. 1707 does not require publication for public comment.

VII. Paperwork Reduction Act

Although the final rule involves forms which reference OMB control numbers, there are no changes which involve a new OMB control number. Therefore, this final rule does not contain any information collection requirements that require the approval of the Office of Management and Budget under the Paperwork Reduction Act (44 U.S.C. chapter 35).

List of Subjects in 48 CFR Parts 501 and 570

Government procurement.

Jeffrey A. Koses,
Senior Procurement Executive, Office of Acquisition Policy, Office of Governmentwide Policy, General Services Administration.

Therefore, GSA amends 48 CFR parts 501 and 570 as set forth below:

1. The authority citation for 48 CFR parts 501 and 570 continues to read as follows:

Authority: 40 U.S.C. 121(c).

PART 501—GENERAL SERVICES ADMINISTRATION ACQUISITION REGULATION SYSTEM

2. Amend section 501.106 by—

a. Removing from the table, GSAR references “GSA-72-A” and “GSA-618-D” and their corresponding OMB control numbers “3090-0121” and “1215-0149”; and

b. Adding to the table, in numerical order, GSAR reference “GSA-1217” to read as follows:

501.106 OMB approval under the Paperwork Reduction Act.

GSAR reference | OMB control No.
* * * * *
GSA-1217 | 3090-0086
* * * * *

PART 570—ACQUIRING LEASEHOLD INTERESTS IN REAL PROPERTY

570.802 [Amended]

3. Amend section 570.802 by removing paragraph (b) and redesignating paragraphs (c) and (d) as paragraphs (b) and (c).

[FR Doc. 2020-16093 Filed 8-18-20; 8:45 am]

BILLING CODE 6820-61-P